DEPARTMENT OF TRANSPORTATION

Federal Motor Carrier Safety Administration

49 CFR Part 390

[Docket No. FMCSA-2012-0103]

RIN 2126-AB90

Lease and Interchange of Vehicles; Motor Carriers of Passengers

AGENCY: Federal Motor Carrier Safety Administration (FMCSA), DOT.

ACTION: Notice of meeting; request for comment.

SUMMARY: FMCSA announces it will hold a roundtable discussion on October 31, 2016, as a follow-up to its August 31, 2016, notice of intent concerning the petitions for reconsideration of the final rule, titled “Lease and Interchange of Vehicles; Motor Carriers of Passengers,” which published May 27, 2015. The meeting will be open to the public. Individuals with diverse experience, expertise, and perspectives are encouraged to attend. If all comments have been exhausted before the end of the session, the session may conclude early.

DATES: The roundtable discussion will be held on Monday, October 31, 2016, from 9:30 a.m. to 4:30 p.m., Eastern Time (ET) at the U.S. Department of Transportation, Media Center, 1200 New Jersey Avenue SE., Ground Floor, Washington, DC 20590. The entire proceedings will be public.

ADDRESSES: You may submit comments bearing the Federal Docket Management System Docket ID (FMCSA-2012-0103) using any of the following methods:

Federal eRulemaking Portal: Go to http://www.regulations.gov. Follow the online instructions for submitting comments.

Mail: Docket Management Facility: U.S. Department of Transportation, 1200 New Jersey Avenue SE., West Building Ground Floor, Room W12-140, Washington, DC 20590.

Hand Delivery or Courier: West Building Ground Floor, Room W12-140, 1200 New Jersey Avenue SE., Washington, DC 20590, between 9 a.m. and 5 p.m., ET, Monday through Friday, except Federal holidays.

Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC 20590, between 9 a.m. and 5 p.m., Monday through Friday, except Federal holidays. The online Federal document management system is available 24 hours each day, 365 days each year. If you would like acknowledgment that the Agency received your comments, please include a self-addressed, stamped envelope or postcard or print the acknowledgement page that appears after submitting comments online. The docket FMCSA-2016-0102 will remain open indefinitely.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Loretta G. Bitner, (202) 385-2428, loretta.bitner@dot.gov, Chief, Commercial Passenger Carrier Safety Division, Office of Enforcement and Compliance, Federal Motor Carrier Safety Administration. FMCSA office hours are from 8 a.m. to 4:30 p.m. ET, Monday through Friday, except Federal holidays.

For information about the public meeting: Ms. Shannon L. Watson, Senior Policy Advisor, Federal Motor Carrier Safety Administration, 1200 New Jersey Avenue SE., Washington, DC 20590, by telephone at 202-366-2551, or by email at Shannon.Watson@dot.gov. If you have questions on viewing or submitting material to the docket, contact Docket Services at 202-366-9826. Business hours are from 8 a.m. to 4:30 p.m. ET, Monday through Friday, except Federal holidays.

SUPPLEMENTARY INFORMATION:

Background:

On August 31, 2016, FMCSA published a notice of intent concerning the lease and interchange of passenger-carrying commercial motor vehicles (CMVs) (81 FR 59951). The purpose of the notice of intent was to inform the public about the Agency's decision concerning the 37 petitions for reconsideration which have been filed in the public docket referenced above. Upon review of these petitions, FMCSA concluded that some have merit. FMCSA, therefore, extended the compliance date of the final rule from January 1, 2017, to January 1, 2018 (82 FR 13998; March 16, 2016), to allow the Agency time to complete any rulemaking action to amend the rule where necessary.

FMCSA Decision

FMCSA plans to issue a rulemaking notice to address the four areas of concern in the August 31, 2016, notice of intent:

(1) Exclusion of “chartering” (i.e., subcontracting) from the leasing requirements;

(2) Amending the CMV requirements for the location of temporary markings for leased/interchanged vehicles;

(3) Changing the requirement that carriers notify customers within 24 hours when they subcontract service to other carriers; and

(4) Expanding the 48-hour delay in preparing a lease to include emergencies when passengers are not actually on board a bus.

The Agency believes that less burdensome regulatory alternatives that would not adversely impact safety could be adopted before the January 1, 2018, compliance date.

Public Roundtable

FMCSA will hold a public roundtable on Monday, October 31, 2016, to discuss these four issue areas. The public will have an opportunity to speak about these issues and provide the Agency with information on how to address them. All public comments will be placed in the docket of this rulemaking. The agenda for this meeting will be posted on the FMCSA Web site www.fmcsa.dot.gov in the near future.

Issued on: September 15, 2016.
Larry W. Minor,
Associate Administrator for Policy.

[FR Doc. 2016-23253 Filed 9-26-16; 8:45 am]

BILLING CODE 4910-EX-P